DEPARTMENT OF AGRICULTURE

Farm Service Agency

Information Collection; Measurement Service Records

AGENCY: Farm Service Agency, USDA.

ACTION: Notice; request for comments.

SUMMARY: In accordance with the Paperwork Reduction Act of 1995, the Farm Service Agency (FSA) is requesting comments from all interested individuals and organizations on a revision of a currently approved information collection associated with the Measurement Service Records.

DATES: We will consider comments that we receive by October 1, 2012.

ADDRESSES: We invite you to submit comments on this notice. In your comments, include date, volume and page number, the OMB Control Number, and the title of the information collection of this issue of the Federal Register. You may submit comments by any of the following methods:

• Federal eRulemaking Portal: Go to http://www.regulations.gov. Follow the online instructions for submitting comments.

• Mail: Joe Lewis, Common Provisions Branch, Production Emergencies and Compliance Division, USDA, FSA, Farm Programs, 1400 Independence Avenue SW., Mail Stop 0517, Washington, DC 20250-0517.

You may also send comments to the Desk Officer for Agriculture, Office of Information and Regulatory Affairs, Office of Management and Budget, Washington, DC 20503. Copies of the information collection may be requested by contacting Joe Lewis at the above address.

FOR FURTHER INFORMATION CONTACT: Joe Lewis, telephone, (202) 720-0795.

SUPPLEMENTARY INFORMATION:

Description of Information Collection

Title: Measurement Service Records.

OMB Control Number: 0560-0260.

Expiration Date: May 31, 2013.

Type of Request: Revision.

Abstract: When a producer requests a measurement of acreage or production from FSA, the producers use form FSA-409 (Measurement Service Record) to make the request, which requires a measurement fee to be paid to FSA. Currently, the Measurement Service (MS) process is entirely a manual process.

The “Modernize and Innovate the Delivery of Agricultural Systems” (MIDAS) is FSA's initiative to improve the delivery of FSA farm program benefits and services through the re-engineering of farm program business processes and the adoption of enhanced and modernized information technology. The current format of FSA-409 was implemented prior to the MIDAS initiative and therefore needs to be updated in order to be compatible with MIDAS. FSA also wants to simplify the form so that producers will only see the fields needed for the specific MS. Through MIDAS, FSA is automating the MS process, and is also modifying how the FSA-409 will be used.

FSA is not collecting any new information on the FSA-409. FSA is only changing the system such that it will print only what is needed based on the type of MS being performed. The types of MS being performed are currently Land (Office or Field) and Commodity Bin. The current form includes all of these. The proposed changes to the form divide the data fields required by MS type—either Land or Bin. This allows the new system to print only the necessary data fields.

FSA has decided to separate the land and bin measurements into two forms. The FSA-409 L would show land measurement requests and results. The FSA-409 B would show bin measurement requests and results.

In the request, the producer provides FSA: the farm serial number, program year, farm location, contact person, and type of service request (acreage or production). The measurement service procedure is done in accordance with 7 CFR part 718 and FSA Handbook 2-CP. FSA is using the collected information to fulfill producers' measurement request and to ensure that measurements are accurate.

Producers will receive MS information from FSA and provide it to FSA at the time of applying for certain program benefits. The MS information includes, but is not limited to, measuring land and crop areas, quantities of farm-stored commodities, and appraising the yields of crops in the field.

Estimate of Annual Burden: Public reporting burden for this collection of information is estimated to average 15 minutes per response. The travel time, which is included in the total annual burden, is estimated to be 1 hour per respondent.

Respondents: Producers.

Estimated Number of Respondents: 135,000.

Estimated Number of Responses per Respondent: 1.

Estimated Total Annual of Responses: 135,000.

Estimated Total Annual Burden Hours: 168,750 hours.

We are requesting comments on all aspects of this information collection to help us:

(1) Determine whether the continued collection of information is still necessary for the proper performance of the functions of the agency, including whether the information will have practical utility;

(2) Assess the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All comments received in response to this notice, including names and addresses when provided, will be a matter of public record on regulation.gov. Comments will be summarized and included in the submission for OMB approval.

Signed on July 20, 2012.
Juan M. Garcia,
Administrator, Farm Service Agency.

[FR Doc. 2012-18648 Filed 7-30-12; 8:45 am]

BILLING CODE 3410-05-P